DEPARTMENT OF TRANSPORTATION

Surface Transportation Board

[STB Finance Docket No. 34284]

Southwest Gulf Railroad Company—Construction and Operation Exemption—Medina County, TX

AGENCY: Surface Transportation Board, Transportation.

ACTION: Notice of intent to prepare an environmental impact statement; notice of initiation of the scoping process; notice of availability of draft scope of study for the environmental impact statement and request for comments.

SUMMARY: On February 27, 2003, Southwest Gulf Railroad Company (SGR) filed a petition with the Surface Transportation Board (Board) pursuant to 49 U.S.C. 10502 for authority to construct and operate a new rail line in Medina County, Texas. The proposed project would involve the construction and operation of approximately seven miles of new rail line. Because the effects of the proposed project on the quality of the human environment are likely to be highly controversial, the Board's Section of Environmental Analysis (SEA) has determined that the preparation of an Environmental Impact Statement (EIS) is appropriate. The purpose of this notice is to notify individuals and agencies interested in or affected by the proposed project of SEA's decision to prepare an EIS and to initiate the formal scoping process. This notice also announces the availability of a draft scope of study and requests comments on the draft scope of study.

DATES: Comments are due by February 26, 2004.

Submitting Environmental Comments: If you wish to submit written comments regarding the attached proposed draft scope of study, please send an original and two copies to the Surface Transportation Board, Case Control Unit, 1925 K Street, NW., Washington, DC 20423-0001, to the attention of Rini Ghosh. Please refer to STB Finance Docket No. 34284 in all correspondence addressed to the Board.

FOR FURTHER INFORMATION CONTACT: Ms. Rini Ghosh, Section of Environmental Analysis, Surface Transportation Board, 1925 K Street, NW., Washington, DC 20423-0001, or 512-419-5941 (the project information line). Assistance for the hearing impaired is available through the Federal Information Relay Service (FIRS) at 1-800-877-8339. The Web site for the Surface Transportation Board is http://www.stb.dot.gov.

SUPPLEMENTARY INFORMATION: Background: By petition filed on February 27, 2003, SGR sought an exemption from the Board under 49 U.S.C. 10502 from the prior approval requirements of 49 U.S.C. 10901 for authority to construct and operate an approximately seven mile line of railroad in Medina County, TX. The proposed rail line would connect a proposed Vulcan Construction Materials, LP quarry and the Del Rio subdivision of the Union Pacific Railroad Company (UP) at milepost 250, near Dunlay, Texas. SGR would use the new rail line to transport limestone from the proposed quarry to the UP rail line, for shipment to markets in the Houston area, as well as other markets in the Southeast, Gulf Coast, and Rio Grande Valley regions of Texas. Although the primary purpose of the proposed construction is to provide rail service to the quarry site, SGR would hold itself out as a common carrier and provide service to other industries that might locate in the area in the future. In a decision served on May 19, 2003, the Board granted conditional approval to SGR's petition, subject to completion of the environmental review process.

Pursuant to the Board's responsibilities under the National Environmental Policy Act (NEPA), SEA has begun the environmental review of SGR's proposal by consulting with appropriate Federal, State, and local agencies, as well as SGR, and conducting technical surveys and analyses. SEA has also consulted with the Texas Historical Commission (THC) in accordance with the regulations implementing section 106 of the National Historic Preservation Act (NHPA) at 36 CFR part 800 and identified appropriate consulting parties to the section 106 process.

On October 10, 2003, SEA issued a Preliminary Cultural Resources Assessment report to the section 106 consulting parties for review and comment. The report set forth SEA's preliminary findings and recommendations regarding cultural resources in the proposed project area. THC, the consulting parties, and other individuals submitted comment letters in response to the report; many of the comments addressed environmental concerns not related to cultural resources.

Due to substantial early public interest in the proposed project, SEA has also conducted extensive public outreach and informal scoping,¹ including holding an informational Open House in Hondo, Texas on June 12, 2003. Approximately 200 people attended the Open House and over 100 comment letters were received in response to the Open House.

¹ Agencies may conduct informal scoping prior to issuance of the Notice of Intent to prepare an EIS. See Forty Most Asked Questions Concerning CEQ's National Environmental Policy Act Regulations, 46 FR 18026 (1981), Question 13.

Based on the nature and content of the numerous public and agency comments received, including the comments on the Preliminary Cultural Resources Assessment report,² SEA has determined that the effects of the proposed project on the quality of the human environment are likely to be highly controversial, and that thus, preparation of an EIS is appropriate.³ At this point in the environmental review process, SEA intends to analyze the potential environmental impacts of the proposed route, the no-action or no-build alternative (i.e., transporting the limestone by truck instead of rail), and three possible alternative routes. We welcome comments on these or additional alternatives.

² All comments received are available on the Board's Web site at http://www.stb.dot.gov, by clicking on “Environmental Issues,” clicking on “Environmental Correspondence,” and then searching the materials under “FD 34284.”

³ See 40 CFR 1508.27(b)(4).

Environmental Review Process: The NEPA process is intended to assist the Board and the public in identifying and assessing the potential environmental consequences of a proposed action before a decision on the proposed action is made. SEA is responsible for ensuring that the Board complies with NEPA and related environmental statutes. The first stage of the EIS process is scoping. Scoping is an open process for determining the scope of environmental issues to be addressed in the EIS. SEA has developed a draft scope of study for the EIS for public review and comment, which incorporates the issues and concerns raised in the comment letters SEA has received thus far. SEA is soliciting written comments on this draft scope of study. After the close of the comment period on the draft scope of study, SEA will review all comments received and then issue a final scope of study for the EIS.

Following the issuance of the final scope of study, SEA will prepare a Draft EIS (DEIS) for the project. The DEIS will address those environmental issues and concerns identified during the scoping process. It will also contain SEA's preliminary recommendations for environmental mitigation measures. Upon its completion, the DEIS will be made available for public and agency review and comment for at least 45 days. A public meeting will also be held during the comment period for the Draft EIS. The details of the public meeting, including the specific format, location, and date, will be available in the Draft EIS. SEA will then prepare a Final EIS (FEIS) that addresses the comments on the DEIS from the public and agencies. Then, in reaching its decision in this case, the Board will take into account the DEIS, the FEIS, and all environmental comments that are received.

Draft Scope of Study for the EIS: Proposed Action and Alternatives

The proposed project would involve the construction and operation of a single-track rail line to connect a proposed Vulcan Construction Materials, LP quarry and UP's Del Rio subdivision line. The proposed rail line would extend about seven miles from the quarry site to approximately milepost 250 of the UP line, at a point near Dunlay, Texas. SGR would use the new rail line to transport limestone from the proposed quarry to the UP rail line, for shipment to markets in the Houston area, as well as other markets in the Southeast, Gulf Coast, and Rio Grande Valley regions of Texas. Although the primary purpose of the proposed construction is to provide rail service to the quarry site, SGR would hold itself out as a common carrier and provide service to other industries that might locate in the area in the future.

The reasonable and feasible alternatives that will be evaluated in the EIS are (1) construction and operation of the proposed project along SGR's proposed alignment (including a rail loading facility, consisting of a loading loop or a series of parallel tracks, that would be constructed and operated on the quarry property and is not subject to the Board's jurisdiction), (2) three alternative routes that have been developed to date, as well as other alternatives that might be identified during the scoping process, and (3) the no-action or no-build alternative (this would involve transportation of the limestone by truck from the proposed quarry to the UP rail line, instead of by rail). We welcome comments on these or additional alternatives.

Environmental Impact Analysis

Proposed New Construction

Analysis in the EIS will address the proposed activities associated with the construction and operation of the proposed new rail line and their potential environmental impacts, as appropriate.

Impact Categories

The EIS will address potential impacts from the proposed construction and operation of the new rail line on the human and natural environment. Impact areas addressed will include the effects of the proposal on transportation and traffic safety, public health and worker health and safety, water resources, biological resources, air quality, geology and soils (including any karst features), land use, environmental justice, noise, vibration, recreation and visual resources, cultural resources and socioeconomics. The EIS will include a discussion of each of these categories as they currently exist in the project area and will address the potential impacts from the proposed project on each category, as described below:

1. Transportation and Traffic Safety

The EIS will:

a. Describe the potential impacts of the proposed new rail line construction and operation on the existing transportation network in the project area, including vehicular delays at grade crossings.

b. Describe the potential for train derailments or accidents from proposed rail operations.

c. Describe potential pipeline safety issues at rail/pipeline crossings, as appropriate.

d. Propose mitigative measures to minimize or eliminate potential project impacts to transportation and traffic safety, as appropriate.

2. Public Health and Worker Health and Safety

The EIS will:

a. Describe potential public health impacts from the proposed new rail line construction and operation.

b. Describe potential impacts to worker health and safety from the proposed new rail line construction and operation.

c. Propose mitigative measures to minimize or eliminate potential project impacts to public health and worker health and safety, as appropriate.

3. Water Resources

The EIS will:

a. Describe the existing groundwater resources within the project area, such as aquifers and springs, and the potential impacts on these resources resulting from construction and operation of the proposed new rail line.

b. Describe the existing surface water resources within the project area, including watersheds, streams, rivers, and creeks, and the potential impacts on these resources resulting from construction and operation of the proposed new rail line.

c. Describe existing wetlands in the project area and the potential impacts on these resources resulting from construction and operation of the proposed new rail line.

d. Describe the permitting requirements that are appropriate for the proposed new rail line construction and operation regarding wetlands, stream and river crossings (including floodplains), water quality, and erosion control.

e. Propose mitigative measures to minimize or eliminate potential project impacts to water resources, as appropriate.

4. Biological Resources

The EIS will:

a. Describe the existing biological resources within the project area, including vegetative communities, wildlife and fisheries, and Federal and state threatened or endangered species and the potential impacts to these resources resulting from the proposed new rail line construction and operation.

b. Propose mitigative measures to minimize or eliminate potential project impacts to biological resources, as appropriate.

5. Air Quality Impacts

The EIS will:

a. Describe the potential air quality impacts resulting from the proposed new rail line construction and operation.

b. Propose mitigative measures to minimize or eliminate potential project impacts to air quality, as appropriate.

6. Geology and Soils

The EIS will:

a. Describe the native soils and geology of the proposed project area.

b. Describe the existing karst features of the project area, if any, and the potential impacts to karst features from the proposed new rail line construction and operation.

c. Propose mitigative measures to minimize or eliminate potential project impacts on soils and geology and to karst features, as appropriate.

7. Land Use

The EIS will:

a. Describe existing land use patterns within the project area and identify those land uses that would be potentially impacted by the proposed new rail line construction and operation.

b. Describe the potential impacts associated with the proposed new rail line construction and operation to land uses identified within the project area.

c. Propose mitigative measures to minimize or eliminate potential project impacts to land use, as appropriate.

8. Environmental Justice

The EIS will:

a. Describe the demographics of the communities potentially impacted by the construction and operation of the proposed new rail line.

b. Evaluate whether new rail line construction or operation would have a disproportionately high adverse impact on any minority or low-income group.

c. Propose mitigative measures to minimize or eliminate potential project impacts on environmental justice communities of concern, as appropriate.

9. Noise

The EIS will:

a. Describe the existing noise environment of the project area and potential noise impacts from the proposed new rail line construction and operation.

b. Propose mitigative measures to minimize or eliminate potential project impacts to noise receptors, as appropriate.

10. Vibration

The EIS will:

a. Describe the potential vibration impacts from the proposed new rail line construction and operation.

b. Propose mitigative measures to minimize or eliminate potential project impacts from vibration, as appropriate.

11. Recreation and Visual Resources

The EIS will:

a. Describe existing recreation and visual resources in the proposed project area and potential impacts to recreation and visual resources from construction and operation of the proposed new rail line.

b. Propose mitigative measures to minimize or eliminate potential project impacts to recreation and visual resources, as appropriate.

12. Cultural Resources

The EIS will:

a. Describe the cultural resources environment in the area of the proposed project and potential impacts to cultural resources from the proposed new rail line construction and operation.

b. Describe the ongoing NHPA section 106 process for the proposed project, and propose mitigative measures to minimize or eliminate potential project impacts to cultural resources, as appropriate.

13. Socioeconomics

The EIS will:

a. Describe the demographic characteristics of the project area and the current sources of income.

b. Describe the potential environmental impacts to employment and the local economy as a result of the proposed new rail line construction and operation.

c. Propose mitigative measures to minimize or eliminate potential project adverse impacts to socioeconomic resources, as appropriate.

14. Cumulative and Indirect Impacts

The EIS will:

a. Address any identified potential cumulative impacts of the proposed new rail line construction and operation, as appropriate. Cumulative impacts are the impacts on the environment which result from the incremental impact of the action when added to other past, present, and reasonably foreseeable future actions regardless of what agency (Federal or non-Federal) or person undertakes such actions (for example, Vulcan Construction Materials, LP's proposed new quarry).

b. Address any identified potential indirect impacts of the proposed new rail line construction and operation, as appropriate. Indirect impacts are impacts that are caused by the action and are later in time or farther removed in distance, but are still reasonably foreseeable.

Decided: January 22, 2004.
By the Board, Victoria Rutson, Chief, Section of Environmental Analysis.
Vernon A. Williams,
Secretary.

[FR Doc. 04-1794 Filed 1-27-04; 8:45 am]

BILLING CODE 4915-00-P